DEPARTMENT OF DEFENSE

Office of the Secretary

Defense Science Board

AGENCY: Department of Defense.

ACTION: Notice of advisory committee meeting.

SUMMARY: The Defense Science Board Task Force on Corrosion Control will meet in closed sessions on May 24-25, 2004, at Strategic Analysis Inc., 3601 Wilson Boulevard, Arlington, VA. The Task Force will address corrosion control throughout a combat system's life cycle: Design, construction, operation and maintenance.

The mission of the Defense Science Board is to advise the Secretary of Defense and the Under Secretary of Defense for Acquisition, Technology & Logistics on scientific and technical matters as they affect the perceived needs of the Department of Defense. At this meeting, the Task Force will assess current on-going corrosion control efforts across the Department of Defense with particular attention to: duplication of research efforts; application of current and future technology which currently exists in one area to other areas (i.e., submarine applications which might translate to aircraft applications); the current state of operator and maintenance personnel training with regards to corrosion control and prevention; the current state of maintenance processes with regards to corrosion control and prevention; the incorporation of corrosion control and maintainability in current acquisition programs (during the design and manufacturing stages); the identity of unique environments important to National Security but with little commercial application (e.g., nuclear weapons). The Task Force will conduct an analysis of the findings generated and determine which areas, if adequate resources were applied, would provide the most significant advances in combat readiness. In addition, the Task Force will assess best commercial practices and determine their applicability to DoD needs.

In accordance with section 10(d) of the Federal Advisory Committee Act, Pub. L. 92-463, as amended 95 U.S.C. App. II), it has been determined that this Defense Science Board Task Force meeting concerns matters listed in 5 U.S.C. 552b(c)(1) and that, accordingly, the meeting will be closed to the public.

L.M. Bynum,
Alternate OSD Federal Register Liaison Officer, Department of Defense.

[FR Doc. 04-7664 Filed 4-5-04; 8:45 am]

BILLING CODE 5001-06-M